DEPARTMENT OF COMMERCE

National Oceanic and Atmospheric Administration

RIN 0648-XG45

New England Fishery Management Council; Public Meeting

AGENCY: National Marine Fisheries Service (NMFS), National Oceanic and Atmospheric Administration (NOAA), Commerce.

ACTION: Notice; public meeting.

SUMMARY: The New England Fishery Management Council's (Council) Vessel Monitoring System (VMS)/Enforcement Committee will meet to consider actions affecting New England fisheries in the exclusive economic zone (EEZ).

DATES: The meeting will be held on Thursday, April 3, 2008 at 9 a.m.

ADDRESSES:

Meeting address: The meeting will be held at the Starboard Galley Restaurant, 55 Water Street, Newburyport, MA; (978)462-1326.

Council address: New England Fishery Management Council, 50 Water Street, Mill 2, Newburyport, MA 01950.

FOR FURTHER INFORMATION CONTACT: Paul J. Howard, Executive Director, New England Fishery Management Council; telephone: (978)465-0492.

SUPPLEMENTARY INFORMATION: The items of discussion in the committee's agenda are as follows:

Agenda for Thursday, April 3, 2008

1. The VMS/Enforcement Committee will discuss the running clock; discussion points include a 24 hour limit, safety improvements, enforced with VMS, call-in, Interactive Voice Response, radioing U.S. Coast Guard, and others.

2. They will also discuss Sector monitoring and enforcement; how many landings there are (proposed and actual), percentage of vessels checked at the dock by Office of Law Enforcement/States (proposed and actual), weigh-master minimum requirements, enforcement of independent monitoring, changes required in enforcement priorities and practices, and others.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 17, 2008.
Tracey L. Thompson,
Acting Director, Office of Sustainable Fisheries, National Marine Fisheries Service.

[FR Doc. E8-5633 Filed 3-19-08; 8:45 am]

BILLING CODE 3510-22-S